DEPARTMENT OF COMMODITY FUTURES TRADING COMMISSION

Agricultural Advisory Committee Meeting

This is to give notice, pursuant to section 10(a) of the Federal Advisory Committee, Act, 5 U.S.C. App. 2 section 10(a), that the Commodity Futures Trading Commission's Agricultural Advisory Committee will conduct a public meeting on Wednesday July 21, 2004. The meeting will take place in the first floor hearing room of the Commission's Washington, DC, headquarters, Three Lafayette Center, 1155 21st Street, NW., Washington, DC 20581 from 2 to 5 p.m.

The agenda will consist of the following:

(1) Call to order and introductions

(2) Review of trends in futures industry and oversight

(3) Discussion of Federal speculative position limits for certain agricultural commodities

(4) Developments regarding various risk-management products for producers

(5) Other business

(6) Discussion of future meetings and topics

(7) Adjourn

The meeting is open to the public. The Chairman of the Advisory Committee, Commission Chairman James E. Newsome, is empowered to conduct the meeting in a fashion that will, in his judgment, facilitate the orderly conduct of business. Any member of the public who wishes to file a written statement with the Advisory Committee should mail a copy of the statement to the attention of: Agricultural Advisory Committee, c/o Chairman James E. Newsome, Commodity Futures Trading Commission, Three Lafayette Centre, 1155 21st Street, NW., Washington, DC 20581, before the meeting. Members of the public who wish to make oral statements should inform Chairman Newsome in writing at the foregoing address at least three business days before the meeting. Reasonable provision will be made, if time permits, for oral presentations of no more than five minutes each in duration.

For further information concerning this meeting, please contact Marcia Blase at 202-418-5050.

Dated: Issued by the Commission in Washington, DC, on June 28, 2004.
Jean A. Webb.
Secretary of the Commission.

[FR Doc. 04-15092 Filed 7-1-04; 8:45 am]

BILLING CODE 6351-01-M